SECURITIES AND EXCHANGE COMMISSION

[File No. 500-1]

In the Matter of: Leading Edge Packaging, Inc., Leadingside, Inc., Lecstar Corp., and Legal Club of America, Inc.; Order of Suspension of Trading

January 29, 2009.

It appears to the Securities and Exchange Commission that there is a lack of current and accurate information concerning the securities of Leading Edge Packaging, Inc. because it has not filed any periodic reports since the period ended December 31, 1999.

It appears to the Securities and Exchange Commission that there is a lack of current and accurate information concerning the securities of Leadingside, Inc. because it has not filed any periodic reports since the period ended September 30, 2000.

It appears to the Securities and Exchange Commission that there is a lack of current and accurate information concerning the securities of Lecstar Corp. because it has not filed any periodic reports since the period ended September 30, 2002.

It appears to the Securities and Exchange Commission that there is a lack of current and accurate information concerning the securities of Legal Club of America, Inc. because it has not filed any periodic reports since the period ended March 31, 2004.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on January 29, 2009, through 11:59 p.m. EST on February 11, 2009.

By the Commission.
Florence E. Harmon,
Deputy Secretary.

[FR Doc. E9-2211 Filed 1-29-09; 11:15 am]

BILLING CODE 8011-01-P